DEPARTMENT OF THE TREASURY

United States Mint

Notification of Pricing for the United States Mint 2009 American Presidency $1 Coin Cover Series, and the United States Mint 2009 District of Columbia and U.S. Territories Quarters Official First Day Coin Cover Series

ACTION: Notification of Pricing for the United States Mint 2009 American Presidency $1 Coin Cover Series, and the United States Mint 2009 District of Columbia and U.S. Territories Quarters Official First Day Coin Cover Series.

SUMMARY: The United States Mint is announcing pricing for the 2009 American Presidency $1 Coin Cover Series and the 2009 District of Columbia and U.S. Territories Quarters Official First Day Coin Cover Series.

The 2009 American Presidency $1 Coin Cover Series will be priced at $14.95 each. Each cover includes two Presidential $1 Coins, one each from the United States Mint facilities at Denver and Philadelphia, on a display card with a stamp and a postmark marking the day the coins were first released to the public.

The 2009 District of Columbia and U.S. Territories Quarters Official First Day Coin Covers will be priced at $14.95 each. Each cover includes two quarters, one each from the United States Mint facilities at Denver and Philadelphia, on a display card with a stamp and a postmark marking the day the quarters were first released to the public.

The first 2009 American Presidency $1 Coin Cover Series, featuring the William Henry Harrison Presidential $1 Coin, and the first 2009 District of Columbia and U.S. Territories Quarters First Day Coin Cover, featuring the District of Columbia Quarter, will be offered for sale this spring.

FOR FURTHER INFORMATION CONTACT: B.B. Craig, Associate Director for Sales and Marketing; United States Mint; 801 Ninth Street, NW., Washington, DC 20220; or call 202-354-7500.

Authority: 31 U.S.C. 5111, 5112 & 9701.

Dated: March 11, 2009.
Edmund C. Moy,
Director, United States Mint.

[FR Doc. E9-5724 Filed 3-16-09; 8:45 am]

BILLING CODE 4810-37-P